DEPARTMENT OF COMMERCE

National Oceanic and Atmospheric Administration

RIN 0648-XE766

Marine Mammals; File No. 20532

AGENCY: National Marine Fisheries Service (NMFS), National Oceanic and Atmospheric Administration (NOAA), Commerce.

ACTION: Notice; receipt of application for permit amendment.

SUMMARY: Notice is hereby given that Stephen John Trumble, Ph.D., Baylor University, 101 Bagby Ave, Waco, TX 76706, has applied in due form for an amendment to Scientific Research Permit No. 20532 for the import, export, and receipt of marine mammal parts for scientific research.

DATES: Written, telefaxed, or email comments must be received on or before January 10, 2019.

ADDRESSES: The application and related documents are available for review by selecting “Records Open for Public Comment” from the “Features” box on the Applications and Permits for Protected Species (APPS) home page, https://apps.nmfs.noaa.gov, and then selecting File No. 20532 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 20532 in the subject line of the email comment.

Those individuals requesting a public hearing should submit a written request to the Chief, Permits and Conservation Division at the address listed above. The request should set forth the specific reasons why a hearing on this application would be appropriate.

FOR FURTHER INFORMATION CONTACT: Shasta McClenahan or Jennifer Skidmore, (301) 427-8401.

SUPPLEMENTARY INFORMATION: The subject amendment to Permit No. 20532 is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 20532, issued on October 26, 2016 (81 FR 70100), authorizes the permit holder to receive, import, and export biological samples from seven species of cetaceans from museum holdings, stranded animals, or legally subsistence hunted animals worldwide for scientific research to chronologically profile anthropogenic and physiological data including hormones and pesticides to record exposure and stress. The permit holder is requesting the permit be amended to include authorization to import earwax and baleen samples from additional cetacean species including: 50 each of Bryde's (Balaenoptera edeni), all species of right (Eubalaena spp.), and sei (Balaenoptera borealis) whales, and up to 100 individual unidentified cetaceans.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: December 6, 2018.
Julia Marie Harrison,
Chief, Permits and Conservation Division, Office of Protected Resources, National Marine Fisheries Service.

[FR Doc. 2018-26749 Filed 12-10-18; 8:45 am]

BILLING CODE 3510-22-P